DEPARTMENT OF LABOR

Employment and Training Administration

[TA-W-63,754]

Lane Furniture Industries, Inc., a Subsidiary of Furniture Brands International, Inc., Service Center, Including Workers Whose UI Wages Were Paid by Action Transort, Belden, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 20, 2008, applicable to workers of Lane Furniture Industries, Inc., Belden, Mississippi. The notice was published in the Federal Register on September 3, 2008 (73 FR 51529). The notice was amended on May 1, 2009 to include workers whose UI wages were paid by Action Transport. The notice was published in the Federal Register on May 18, 2009 (74 FR 23212).

At the request of the State agency, the Department reviewed the certification for workers of the subject firm. The workers are engaged in the production of upholstered furniture and replacement units and component parts.

New information shows that the certification document issued on behalf of the workers of the subject firm did not identify the Belden, Mississippi location as the Service Center.

Information also shows that Furniture Brands International, Inc. is the parent firm of Lane Furniture Industries, Inc. Workers wages at the subject firm are being reported under the Unemployment Insurance (UI) tax account for Furniture Brands International, Incorporated.

Accordingly, the Department is amending this certification to properly reflect these matters.

The intent of the Department's certification is to include all workers of Lane Furniture Industries, Inc., a subsidiary of Furniture Brands International, Inc., Service Center, including workers whose UI wages were paid by Action Transport, Belden, Mississippi who were adversely affected by increased imports of upholstered furniture and replacement units and component parts.

The amended notice applicable to TA-W-63,754 is hereby issued as follows:

All workers of Lane Furniture Industries, Inc., a subsidiary of Furniture Brands International, Inc., Service Center, including workers whose wages were paid by Action Transport, Belden, Mississippi, who became totally or partially separated from employment on or after July 28, 2007, August 20, 2010, are eligible to apply for adjustment assistance under Section 223 of the Trade Act of 1974, and are also eligible to apply for alternative trade adjustment assistance under Section 246 of the Trade Act of 1974.

Signed at Washington, DC this 22nd day of October 2009.
Elliott S. Kushner,
Certifying Officer, Division of Trade Adjustment Assistance.

[FR Doc. E9-27017 Filed 11-9-09; 8:45 am]

BILLING CODE 4510-FN-P